DEPARTMENT OF STATE

[Public Notice 5636]

Bureau of Educational and Cultural Affairs (ECA) Request for Grant Proposals: Open Competition Seeking: Professional Exchange Programs; Cultural Programs; and School Administrators & Community Leaders in Indonesia

Announcement Type: New Grant.

Funding Opportunity Number: ECA/PE/C-07-01.

Catalog of Federal Domestic Assistance Number: 19.415.

Key Dates:

Application Deadline: February 16, 2007.

Executive Summary: The Office of Citizen Exchanges of the Bureau of Educational and Cultural Affairs announces an open competition for grants that support exchanges and build relationships between U.S. non-profit organizations and civil society and cultural groups in Africa, East Asia, Europe, the Near East, North Africa, South Central Asia and the Western Hemisphere. U.S. public and non-profit organizations meeting the provisions described in Internal Revenue code section 26 U.S.C. 501(c)(3) may submit proposals that support the goals of The Professional Exchanges and Cultural Program. Projects should promote mutual understanding and partnerships between key professional and cultural groups in the United States and counterpart groups in other countries through multi-phased exchanges taking place over one to two years. Proposals should encourage citizen engagement in current issues, with a particular focus on youth and those who influence them, and promote the development of democratic societies and institutions, with a view toward creating a more stable world. To the fullest extent possible, programs should be two-way exchanges supporting roughly equal numbers of participants from the U.S. and foreign countries.

Proposed projects should transform institutional and individual understanding of key issues, foster dialogue, share expertise, and develop capacity. Through these people-to-people exchanges, the Bureau seeks to break down stereotypes that divide peoples, to promote good governance, to contribute to conflict prevention and management, and to build respect for cultural expression and identity in a world. Projects should be structured to allow American professionals and their international counterparts in eligible countries to develop a common dialogue for dealing with shared challenges and concerns. Projects should include current or potential leaders who will effect positive change in their communities. Exchange participants may include artists, community leaders, elected and professional government officials, religious leaders, educators, and proponents of democratic ideals and institutions, including for example, the media and judiciary, or others who influence the way in which different communities approach these issues. The Bureau is especially interested in engaging socially and economically diverse groups that may not have had extensive contact with counterpart institutions in the United States and particularly seeks proposals that engage educators or other groups that directly influence youth in innovative ways. Applicants may not submit proposals that address more than one region or that include countries not eligible under a specific theme designated in the RFGP. For the purposes of this competition, eligible regions are Africa, East Asia, Europe, the Near East, North Africa, South Central Asia, and the Western Hemisphere. No guarantee is made or implied that grants will be awarded in all themes and for all countries listed.

Please refer to section III.3 for information on eligibility requirements.

I. Funding Opportunity Description

Authority: Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose: The competition is based on the premise that people-to-people exchanges encourage and strengthen understanding of democratic values, nurture the social, political, cultural, and economic development of societies and encourage citizen involvement. Exchanges supported by institutional grants from the Bureau should operate at two levels: They should enhance partnerships between U.S. and foreign institutions, and they should establish a common language to develop practical solutions for shared problems and concerns. The Bureau is particularly interested in projects that will create mutually beneficial and self-sustaining linkages between professional communities in the U.S. and their counterpart communities in other countries. Applicants must identify the U.S. and foreign organizations and individuals with whom they are proposing to collaborate and describe previous cooperative activities, if any. Information about the mission, activities, and accomplishments of partner organizations should be included in the submission. Proposals should contain letters of commitment or support from partner organizations for the proposed project. Applicants should clearly outline and describe the role and responsibilities of all partner organizations in terms of project logistics, management and oversight. Proposals linking institutions that have previously collaborated should clearly indicate how projects proposed in response to this RFGP will significantly build on previous work to accomplish specific new outcomes. Proposals for creative new work or designed to achieve significant new outcomes will be deemed more competitive under the Program Planning and Ability to Achieve Objectives review criterion, per item V.1 below. Proposals for continuing activities funded under previous grants will be deemed less so.

Competitive proposals will include the following:

• A brief description of the issue to be addressed and how it relates to the target country or region. (Proposals that request resources for an initial needs assessment will be deemed less competitive under the review criterion Program Planning and Ability to Achieve Objectives, per item V.1 below.);

• A clear, succinct statement of program objectives and expected outcomes that respond to Bureau goals for each theme in this competition. Desired outcomes should be described in qualitative and quantitative terms. (See the Program Monitoring and Evaluation section per item V.1 below, for more information on project objectives and outcomes.);

• A proposed timeline, listing the optimal schedule for each program activity;

• A description of participant recruitment and selection processes;

• Letters of support from foreign and U.S. partners. (Letters from prospective partner institutions should demonstrate a capacity to arrange and conduct U.S. and overseas activities.);

• An outline of the applicant organization's relevant expertise in the project theme and country(ies);

• An outline of relevant experience managing previous exchange programs;

• Resumes of experienced staff who have demonstrated a commitment to implement and monitor projects and ensure outcomes;

• A comprehensive plan to evaluate whether program outcomes achieved the specific objectives described in the narrative. (See the Program Monitoring and Evaluation section [IV.3d.d below] for further guidance on evaluation.);

• A post-grant plan that demonstrates how the grantee plans to maintain contacts initiated through the program. Applicants should discuss ways that U.S. and foreign participants or host institutions will collaborate and communicate after the ECA-funded grant has concluded. (See Review Criterion #5, per item V.1 below for more information on post-grant activities.)

• Successful projects will demonstrate the importance Americans place on community service as an element of active citizenship and may include ideas and projects to strengthen civil society through community service either during participants' stay in the U.S. or upon their return to their countries.

• In addition to addressing the specific themes described below, proposals should develop partner organizations' capacity in such areas as strategic planning, performance management, fund raising, financial management, human resources management, and decision-making.

It is important that the proposal narrative clearly state the applicant's commitment to consult closely with the Public Affairs Section of the U.S. Embassy in the relevant country(ies) to develop plans for project implementation and to select project participants. Proposals should also acknowledge U.S. embassy involvement in the final selection of all participants. Applicants should state their willingness to invite representatives of the embassy(ies) and/or consulate(s) to participate in program sessions or site visits. Narratives should state that all material developed for the project will prominently acknowledge Department of State ECA Bureau funding for the program. Applicants who are awarded assistance awards are encouraged to engage in outreach activities that will promote the goals of the project and increase the visibility of the project activities, including the holding of public events and appropriate media appearances. Grantees and in-country partners are encouraged to consult closely with the relevant Public Affairs Section staff from the U.S. Embassy(ies) and with Washington, DC-based program officers on any such outreach.

All applicants are strongly encouraged to consult with the Washington, DC-based State Department contact for the themes/regions listed below and with Public Affairs Officers at U.S. embassies in relevant countries as they develop proposals responding to this RFGP.

Note on Outputs and Outcomes: All projects under this RFGP must identify outputs and outcomes for each program phase. Outputs are products and services delivered, often stated as an amount. Output information is important to show the scope or size of project activities, but it cannot substitute for information about progress towards outcomes or the results achieved. Examples of outputs include the number of people trained or the number of seminars conducted. Outcomes are the impacts on individual participants in the exchanges, the larger beneficiary audience, and changes in institutional structures or behavior. Findings on outputs and outcomes should both be reported, but the focus should be on outcomes. The more that outcomes are “smart” (specific, measurable, attainable, results-oriented, and placed in a reasonable time frame), the stronger will be the evaluation.

Africa (AF)

Program Contact: Curtis Huff, tel: (202) 453-8159, e-mail: HuffCE@State.gov.

I. AF: Active and Responsible Citizenship

• Promote the education of citizens with broad potential to influence their societies, especially women and representatives of marginalized groups, on rights and responsibilities in a democracy, and empower them to participate in the development of public policy, public discussions and debates by developing their knowledge, individual skills and organizational capacity, and the development of self sustaining civil society organizations.

Audience: Primarily women and representatives of marginalized groups who show leadership potential. Secondarily, other community leaders who can create the conditions for more effective citizen participation in public affairs and community organizations.

Eligible Countries: Proposals must focus on one of the following: Kenya, Nigeria, or South Africa. The Office is willing to consider the addition of one or two neighboring countries in the sub-region if the case can be made that such inclusion will strengthen impact of the program.

A successful program will provide participants:

• Practical positive results of citizen engagement in civil society, including an informed and participating citizenry, respect for human rights and the rule of law and concepts such as volunteerism, the idea that citizens can and do act at the grassroots level to deal with social problems.

• Appreciation for American governmental and legal structures, an understanding of the diversity of American society and increased tolerance and respect for others with differing views and beliefs.

• Structured interaction designed to develop enduring professional ties between U.S. and partner organizations.

• Develop leadership capacity to enable participants to initiate and sustain community development and community service activities in their home countries.

Possible program model:

• The U.S. grantee and its African partner identify Africans to be considered for a U.S.-based program.

• A three-to four-week U.S. program is designed that includes orientation, study tour/site visits, internships, and discussions.

• Similar study tours are designed for American participants in Africa, along with workshops and other public programs including media. Such activities will offer American participants the opportunity to join with their African partners in reaching broader audiences in Africa.

• Joint, follow-on projects are designed to be implemented by the American and African partners after the ECA grant has expired, such as online correspondence including Digital Video Conferences, development of informative materials to share, and joint study projects through electronic means.

II. AF: Transparent, Accountable Financial Management

• Engage financial managers with significant responsibility in government or nongovernmental organizations to increase their skills and professional standards.

Audience: Financial managers, both governmental and nongovernmental.

Eligible Countries: To be successful, a proposal must focus on one of the following: Kenya, Nigeria, or South Africa. The Office is willing to consider the addition of one or two neighboring countries in the sub-region if the case can be made that such inclusion will strengthen impact of the program.

A successful program will provide participants:

• An understanding of the professional standards for managing large-scale finances in transparent and accountable fashion to minimize opportunities for unethical or incompetent use of public money.

• Skill in managing money to the highest professional standards.

• Connection to professional associations that support financial managers in striving for best performance.

• Opportunities to observe how capable organizations train and monitor staff in managing finances in order to assure best performance.

Possible program model:

• An American delegation chosen by the grantee travels to the partner country to assess financial management practices with its partner organization and jointly plan for a relevant professional development program to follow.

• U.S. grantee and its African partner identify potential African participants in the proposed program, focusing on financial managers in leadership positions or with leadership potential.

• When approved by the Public Affairs Office of the U.S. Embassy, African participants travel to the U.S. for at least three weeks of learning, site visits, workshops, internships or similar opportunities to learn skills, professional standards, and management of persons with financial responsibilities, through activities designed by the grantee.

• An American delegation travels to the African partner country(ies) to conduct workshops with its partner organization for a broader audience and to plan related activities to be conducted after expiration of the ECA grant.

III. AF: Fostering Economic Growth to Strengthen Democracy

• Educate women and emerging leaders among marginalized groups in entrepreneurial thinking, business leadership, and a community-wide perspective to empower them to engage in business creation.

Audience: Young entrepreneurs, especially women and representatives among marginalized groups, and representatives from government and nongovernmental organizations with positions and interest to foster a climate that encourages new meritorious business creation.

Eligible Countries: To be successful, a proposal must focus on one of the following: Kenya, Nigeria, or South Africa. The Office is willing to consider the addition of one or two neighboring countries in the sub-region if the case can be made that such inclusion will strengthen the impact of the program.

A successful program will provide participants:

• Knowledge and advice to start new businesses.

• Understanding of conditions that foster a free-market economy and how government can promote those conditions.

• Appreciation for the best American business practices and the role of individual entrepreneurial efforts to create growth.

• An understanding of the diversity of American society.

• Enhanced leadership capacity that will enable participants to initiate and support activities in their home country(ies) that foster economic growth in a democratic society.

• Interaction with Americans designed to generate enduring ties.

Possible program model:

• The U.S. grantee and its African partner identify Africans to be considered for the U.S.-based program.

• A three- to four-week U.S. program is designed that includes orientation, study tour/site visits, internships and discussions.

• Similar study tours are designed for American participants in Africa, along with workshops and other public programs including media. Such activities will offer American participants the opportunity to join with their African partners in reaching broader audiences in Africa.

• Design joint, follow-on projects to be implemented by the American and African partners after the ECA grant has expired, such as online correspondence including DVCs, development of informative materials to share, and joint study projects through electronic means.

East Asia and the Pacific (EAP)

Program Contact: Clint Wright, tel: (202) 453-8164, e-mail: WrightHC@state.gov.

I. EAP: Active and Responsible Citizenship

• Educate parents, teachers and leaders of youth organizations on rights and responsibilities in a democracy and empower them to participate in the development of public policy, public discussions and debates by developing their individual skills and organizations. Projects should engage government and NGO leaders in dialogue.

• Engage government leaders—national and local—in the importance of citizen participation in governmental decision-making and develop/examine specific practices that promote an effective, accountable, transparent and responsive government and public administration that is crucial to the development of democracy. Projects should engage government and NGO leaders in dialogue.

Audience: Representatives from government and non-governmental organizations, and community leaders.

Eligible Countries: (single-country projects only) China, Indonesia, Malaysia, and the Philippines.

A successful program will provide participants:

• Understanding of important elements of a civil society. This includes concepts such as volunteerism, the idea that citizens can and do act at the grassroots level to deal with social problems, and an awareness of the importance of the rule of law in all societies.

• Appreciation for American governmental and legal structures, an understanding of the diversity of American society and increased tolerance and respect for others with differing views and beliefs.

▪ Structured interaction designed to develop enduring professional ties between U.S. and partner organizations.

▪ Enhanced leadership capacity that will enable the participants to initiate and support activities in their home countries that focus on civic engagement and community service.

Successful applicants must fully demonstrate a capacity to achieve the following three key activities:

(1) Recruit and select approximately 30 individuals from government, non-governmental organizations, and community leaders throughout the target country, including private business leaders. Program should be designed for two groups of 15 to travel to the U.S. For this phase of the program, partnering with organizations based in the target country is required.

(2) In addition to identifying in-country partner and screening, selecting, and preparing participants prior to departure for the United States, the recipient of this grant will be responsible for building and executing a three to four week informative travel and residency program in the United States.

(3) The final part of the program will be conducting enhancement activities and leadership development opportunities that reinforce program goals after the participants' return to their home country. An essential follow-on component will be a longitudinal assessment of the achievements of the program.

Possible Program Model:

• U.S. grantee identifies U.S. citizens to conduct in-country seminar for citizen leaders, teachers, NGO representatives, responsible media, elected local government officials, and legal professionals to discuss transparency and accountability. In-country partner (a local university or other appropriate professional group) co-hosts the event with the U.S. grantee institution.

• U.S. program that includes a seminar on the role of government/citizen in the U.S.; internships in local elected officials' offices, NGO organizations, and citizen organizations; and a one-day debriefing and evaluation.

• In-country program conducted by U.S. experts that served as internship hosts or seminar leaders. Participants in U.S. program design an in-country seminar and serve as co-presenters. Organizers broaden impact through audience outreach, including media. Project may also support materials translated into target language, small grants for projects designed to expand the exchange experience and support for the development of alumni association.

II. EAP: Creating Economic Growth to Strengthen Democracy

• Engage community and business leaders, including those involved in science and technology, to promote economic growth and prosperity among youth by sharing experiences, practical information, and developing leadership skills in business, including the importance of corporate social responsibility.

• Educate youth and women in entrepreneurial thinking and business leadership skills to empower them to engage in business creation.

Audience: Young entrepreneurs, community leaders, including representatives from governmental and non-governmental organizations.

Eligible Countries: (single-country projects only) China, Indonesia, Malaysia, the Philippines, and Vietnam.

A successful program will provide participants:

• Knowledge of the role learning plays in creating the conditions necessary for a free market economy. This includes awareness among the individuals from the private sector, and to a lesser extent, public sector counterparts who shape the business environment, to develop technically competent and culturally sensitive workers in private sector enterprises and an appreciation of the role of the individual entrepreneur in creating economic growth.

• Appreciation for American business practice and role of individual entrepreneurial efforts to create growth, and an understanding of the diversity of American society.

• Structured interaction designed to develop enduring professional ties between U.S. and partner organizations.

• Enhanced leadership capacity that will enable participants to initiate and support activities in their home countries that focus on development and community service.

Successful applicants must fully demonstrate a capacity to achieve the following three key activities:

(1) Recruit and select approximately 30 individuals from the business associations, banking and regulatory agencies and print media including individual business owners throughout the target country. Program should be designed for two groups of 15 to travel to the U.S. For this phase of the program, partnering with organizations based in target country is required.

(2) In addition to identifying in-country partner and screening, selecting, and preparing participants prior to departure for the United States, the recipient of this grant will be responsible for building and executing a three to four week informative travel and residency program in the United States.

(3) The final part of the program will be conducting enhancement activities and leadership development opportunities that reinforce program goals after the participants' return to their home country. An essential follow-on component will be a longitudinal assessment of the achievements of the program.

Possible Program Model:

• Successful small business entrepreneurs conduct workshops for audiences on effective, practical methods of stimulating entrepreneurial skills in target countries.

• Key participants of in-country workshops invited to U.S. for business facilitation or mentoring to promote innovation and networking skills. Develop action plans for business implementation upon return home.

• Upon return participants implement business action plans with guidance from U.S. mentors utilizing e-mail and other direct communication.

• Business mentors travel to country to evaluate implementation of action plan and offer assistance.

III. EAP: School Administrators & Community Leaders

School Administrators and Community Leaders should be provided with the following:

• Acquire an understanding of important elements of a civil society. This includes concepts such as volunteerism, the idea that American citizens are responsible for acting at the grassroots level to deal with social and educational problems, and an awareness of respect for the rule of law in the U.S.

• Acquire an understanding of the importance of education in creating conditions for a free market economy. This includes awareness of private enterprise and an appreciation of the role of the entrepreneur in economic growth.

• Develop an appreciation for American culture, an understanding of the diversity of American society and increased tolerance and respect for others with differing views and beliefs.

• Structured interaction designed to develop enduring professional ties between U.S. and partner organizations.

• Gain leadership capacity that will enable participants to initiate and support activities in their home countries that focus on development and community service.

Audience: Leaders of boarding schools that focus on teaching Islamic values and on providing basic education to children from several regions in Indonesia. These boarding schools are known as “pesantren”.

Eligible Country: Indonesia.

A successful program design must accomplish these three key objectives:

(1) Recruit and select approximately 45 individual leaders from Indonesian private secondary schools (known as “pesantren”) that are administered under the auspices of the Government of Indonesia's Department of Religious Affairs. Program should be designed for three groups of 15 school administrators and community leaders to travel to the U.S. For this phase of the program, partnering with organizations based in Indonesia is required.

(2) In addition to identifying schools and screening, selecting, and preparing participants prior to departure for the United States, the recipient of this grant will be responsible for building and executing a three to four week informative travel and residency program in the United States.

(3) The final part of the program will be conducting enhancement activities and leadership development opportunities that reinforce program goals after the participants' return to Indonesia. An essential follow-on component will be a longitudinal assessment of the achievements of the program.

(4) Program design should focus on offering participants maximum opportunities to develop leadership skills and raise their awareness of how to develop critical thinking, nurture democratic values, and encourage tolerance for through the classroom and through school-supported community activities and networks.

Possible Program Model:

• A U.S.-based program that includes an orientation to program purposes and to U.S. society; study tour/site visits; professional internships/placements; interaction and dialogue; hands-on training; professional development; and action plan development.

• Capacity-building/training-of-trainer (TOT) workshops to help participants to identify priorities, create work plans, strengthen professional and volunteer skills, share their experience with committed people within each country, and become active in a practical and valuable way.

• Site visits by U.S. facilitators/experts to monitor projects in the region and to encourage further development, as appropriate.

Europe (EUR)

Program Contact: Brent Beemer, tel: (202) 453-8147, e-mail: BeemerBT@state.gov.

I. EUR: Foreign Policy Dialogue Among Emerging Leaders

• This project is designed to support the integration of Turkey and Europe and to promote the participation of young Turkish leaders in the transatlantic dialogue on foreign policy issues. The project goal is to encourage emerging leaders to examine foreign policy issues in a context that encourages substantive dialogue on disagreements with other countries. This program will show how democratic nations/governments/citizens can disagree—and very strongly—on specific issues with other countries, but still maintain healthy bilateral and interpersonal relationships. The program should examine how falling back on extremist ideologies and withdrawing from dialogue with other nations can lead to isolationism and political instability, and ultimately weaker democratic systems.

Audience: Emerging leaders age 21-35 involved in international affairs from youth wings of political parties, NGOs with youth focus, universities, business organizations, active politicians, journalists, business people, think tanks, and cultural figures.

Eligible Country: Turkey.

A successful program will provide participants:

• The capacity to engage in serious, important, and productive dialogue on international issues in ways that strengthen civil society and the democratic process.

• New links between emerging leaders and organizations in Turkey and the United States.

• A better understanding of the priority issues, concerns, and ideas that prevail in each society;

• A fuller understanding of American and Turkish foreign policies, political structures, societies, and cultures.

Successful applicants must fully demonstrate a capacity to achieve the following three key activities:

(1) Recruit and select approximately 40 individuals from throughout the target country. Program should be designed for two groups of 20 to travel to the U.S. For this phase of the program, partnering with organizations based in Turkey is required (the Public Affairs Section of the U.S. Embassy in Ankara should be consulted on this).

(2) In addition to identifying in-country partner and screening, selecting, and preparing participants prior to departure for the United States, the recipient of this grant will be responsible for building and executing a three to four week informative travel and residency program in the United States.

(3) The final part of the program will be conducting enhancement activities and leadership development opportunities that reinforce program goals after the participants' return to Turkey. An essential follow-on component will be a longitudinal assessment of the achievements of the program.

Possible Program Model:

• U.S. grantee identifies U.S. citizens to conduct in-country seminars on the theme. Partner in Turkey would co-host the event with the U.S. grantee institution.

• U.S. program that would include seminars; internships in local elected officials' offices, NGO organizations; and a one- or two-day debriefing and evaluation.

• Program in Turkey conducted by U.S. experts that served as internship hosts or seminar leaders. Participants in U.S. program design the seminar and serve as co-presenters. Project would also support materials translated into Turkish, small grants for projects designed to expand the exchange experience and support for the development of alumni association.

II. EUR: Outreach and Integration of Marginalized Populations, Particularly Youth, in Western Europe

• Engage community leaders, educators, youth influencers, journalists, and community-based organizations in examination of programs and practices to facilitate integration, assimilation, and empowerment of minority populations, particularly youth.

Audience: Representatives of non-governmental organizations, community leaders, educators, youth influencers, journalists from minority communities. Note: European Union, national, and regional government officials are welcome to be part of programming, but given funding limitations, they will need to cover all their own expenses.

Eligible Countries: (single-country projects only) Belgium, Denmark, Italy, United Kingdom.

A successful program will provide participants:

• Understanding of issues related to the integration of immigrant and minority populations into a modern democratic society. This includes integration in the political system, economic opportunity, and freedom of expression, education, and social/cultural life, while maintaining ethnic identity within a multi-ethnic society.

• A specific understanding of immigrant and minority youth populations and the special needs/challenges they face in modern society.

• Appreciation for American governmental and legal structures, an understanding of the diversity of American society and efforts over the nation's history to increase tolerance and respect for others with differing views and beliefs. Program content will include an overview of the range of historical and current American experience with integrating various immigrant and minority citizens, examination of what has worked well and what has not, and analysis of the range of actors including government, NGOs, religious organizations, immigrant organizations, educational institutions, and the role of the media and public who are involved in this information.

• Structured interaction designed to develop enduring professional ties between U.S. and partner organizations.

• Enhanced leadership capacity that will enable participants to initiate and support activities in their home countries that focus on integration of minority populations.

Successful applicants must fully demonstrate a capacity to achieve the following key activities:

(1) Recruit and select approximately 15 to 20 individuals throughout the target country. Program should be designed for two groups to travel to the U.S. Partnering with organizations based in target country is required. Also, given resources available in Western Europe, successful applicants will have West European partners that will cover considerable program costs within the host country and cover all its own administrative costs for this project.

(2) In addition to identifying in-country partner and screening, selecting, and preparing participants prior to departure for the United States, the recipient of this grant will be responsible for building and executing a three to four week informative travel and training program in the United States.

(3) Conducting an in-country workshop(s) to examine the process of integration/assimilation of marginalized populations in Europe and developing strategies to address these issues. The workshop(s) should be designed to engage a broad audience, not just program participants.

(4) The development of enhancement activities and development opportunities that reinforce program goals after the participants' return to their home country. An essential follow-on component will be a longitudinal assessment of the achievements of the program.

Possible Program Model:

• U.S. grantee and in-country partner identifies West European citizens to participate in the U.S.-based program.

• A three to four week U.S. program that includes an orientation, study tour/site visits; possible short-term internships/work shadowing opportunities; hands on training/training-of-trainers; professional development; and the development of action plans.

• In-country workshop(s) for a broad audience to examine the process of integration of minority communities. Program conducted by U.S. experts that served as internship hosts or seminar leaders. Participants in U.S. program design the seminar and serve as co-presenters.

• Enrichment activities that could include support materials translated into target language, small grants for projects designed to expand the exchange experience, and other activities.

Near East Asia and North Africa (NEA)

Program Contact: Thomas Johnston, tel: (202) 453-8162, e-mail: JohnstonTJ@state.gov.

I. NEA: Active and Responsible Citizenship

• Educate citizens, with particular focus on educators, leaders of youth organizations, journalists, or community leaders/activists in non-governmental organizations, on the rights and responsibilities of individuals in civil society and a democratic polity.

• Empower these groups to take initiative and to participate in the discussion and the development of policy by providing them information, enhancing their skills, and strengthening their organizations. Projects should emphasize formal and/or informal learning, engagement, dialogue, and collaborative effort.

• Engage young to mid-level professionals in formal and informal leadership positions in an examination of the importance of citizen participation in decision-making and consider specific practices that promote the type of effective, accountable, transparent and responsive institutions that are crucial to the development of democracy. Projects should engage leaders, educators, youth influencers, and/or community/NGO activists in dialogue.

Exchanges may focus on one of more of the following themes: governance, transparency, and fighting corruption; education for participation in civil society; advocacy in democratic process, NGO development, public interest advocacy and information dissemination; public health/public welfare; expanding the role of women and minorities; educating for responsible environmental action; and / or education for responsible preservation of cultural heritage.

Participants: Representatives of government and non-governmental organizations, community leaders/activists, educators, leaders of youth organizations, and/or journalists.

Eligible Countries: (single-country and multi-country projects) Proposals must include one or more of the following seven countries: Morocco, Algeria, Egypt, Jordan, Iran*, Syria, and the countries of the Arabian Gulf. Other countries/entities in the region may be included with one or more of the countries listed above, if the applicant provides a compelling case that the proposed country grouping will significantly enhance project outcomes.

*Note: Applicants planning to include Iranian participants must meet specific additional eligibility requirements. To assure that planning for the inclusion of Iran complies with guidelines, please contact Mark Larsen, 202-453-8154, or e-mail larsenm@state.gov.

A successful program will provide participants:

• An understanding of the important elements of a civil society. This includes the centrality of an informed, engaged, and responsible citizenry; citizens acting at the grassroots level to deal with social problems; volunteerism, and an awareness of the importance of the rule of law in all societies.

• An appreciation for American governmental and legal structures, an understanding of the diversity of American society, and increased tolerance and respect for others with differing views and beliefs.

• Structured interaction designed to develop enduring professional ties between U.S. and partner organizations.

• Enhanced leadership capacity to enable participants to initiate and support activities promoting citizen awareness and engagement, strengthening social development, and community service in their home countries.

Successful applicants must demonstrate a capacity to implement successfully the following key activities:

(1) Develop a multi-phased, community and professional exchange focused on emerging professionals (community leaders; scholars and academics; public policy advocates; non-governmental organization activists; etc.) to promote active and responsible citizenship.

(2) Identify an in-country counterpart organization committed to active involvement in the exchange and engage that partner in the recruitment and selection of participants and the implementation of in-country phases of the exchange.

(3) Promote focused, substantive, and cooperative interaction among counterparts, with particular focus on experiential learning for all participants.

(4) Contribute to the establishment of sustained, international, institutional and individual linkages by providing a context for professional learning and development, skills enhancement, and collaborative problem-solving.

(5) Introduce foreign participants and their American counterparts to one another's political, social, and economic values and systems, facilitating improved communication and enhancing mutual understanding.

(6) Conduct enhancement activities and leadership development opportunities that reinforce program goals after the participants' return to their home countries. An essential follow-on component will be a longitudinal assessment of the achievements of the program.

Possible Program Model:

• American citizens travel under the auspices of the grantee institution to partner country(ies), consult with in-country partner institution(s), contact and identify potential exchange participants, and define the concept and goals of the project.

• A group of non-American participants engages in dialogue, orientation, site visits, training, workshops, and seminars in the U.S. to gain new skills; develops action plans; conducts shadow internships; and undertakes and other experiential activities.

• A second group of Americans—specialists identified by the non-American participants as having particularly relevant information or skills—travel to the partner country(ies) and work with foreign participants in seminars and workshops to broaden the scope of professional individuals engaged in the exchange.

• A second group of foreign participants, possibly nominated by the original participants, travels to the United States for in-depth internships, to be involved in train-the-trainer activities, or to further pursue the goals of the exchange, returning to their countries to put what has been learned into practice.

South Central Asia (SCA)

Program Contact: Adam Meier, tel: (202) 453-8151, e-mail: MeierAW@State.gov.

I. SCA: Active and Responsible Citizenship

• Educate citizens, with particular focus on educators, leaders of youth organizations, journalists, or community leaders/activists in non-governmental organizations, on the rights and responsibilities of individuals in civil society and a democratic polity. Empower them to take initiative and to participate in the discussion and the development of policy by providing them information, enhancing their skills, and strengthening their organizations. Projects should emphasize formal and/or informal learning, engagement, dialogue, and collaborative effort.

• Engage individuals in formal and informal leadership positions in an examination of the importance of citizen participation in decision-making and consider specific practices that promote the type of effective, accountable, transparent and responsive institutions that are crucial to the development of democracy. Projects should engage leaders, educators, youth influencers, and/or community/NGO activists in dialogue.

• Exchanges may focus on one of more of the following themes: governance, transparency, and fighting corruption; education for participation in civil society, including curriculum development and teacher training; advocacy in democratic process, NGO development, public interest advocacy and information dissemination; expanding the role of women and minorities; educating for responsible environmental action; and/or education for responsible preservation of cultural heritage.

Participants: Representatives of government and non-governmental organizations, community leaders/activists, educators, leaders of youth organizations, and/or journalists.

Eligible Countries: Afghanistan*, Bangladesh, India, Nepal, Pakistan, Sri Lanka, Kazakhstan, Tajikistan, and Kyrgyzstan. Priority will be given to projects that are designed to enhance linkages between South Asia and Central Asia; specifically, proposals that include one or more countries from South Asia (Afghanistan, Bangladesh, India, Nepal, Pakistan, and Sri Lanka) with one or more countries from Central Asia (Kazakhstan, Tajikistan, and Kyrgyzstan.)

*Note: For projects in Afghanistan, proposals must include a description of plans for an alternate location for the in-country portion of the program given the security situation in Afghanistan.

A successful program will provide participants:

• An understanding of the important elements of a civil society. This includes the centrality of an informed, engaged, and responsible citizenry; citizens acting at the grassroots level to deal with social problems; volunteerism, and an awareness of the importance of the rule of law in all societies.

• An appreciation for American governmental and legal structures, an understanding of the diversity of American society, and increased tolerance and respect for others with differing views and beliefs.

• Structured interaction designed to develop enduring professional ties between U.S. and partner organizations.

• Enhanced leadership capacity enabling participants to initiate and support activities in their home countries that focus on citizen awareness and engagement, strengthening social development, and community service.

Successful applicants must demonstrate a capacity to implement successfully the following key activities:

(1) Develop a multi-phased, professional exchange focused on emerging leaders (community leaders; scholars and academics; public policy advocates; non-governmental organization activists; etc.) to address jointly an issue of crucial importance to the United States and to the partner country(ies).

(2) Identify an in-country counterpart organization committed to active involvement in the exchange and engage that partner in the recruitment and selection of participants and the implementation of in-country phases of the exchange.

(3) Promote focused, substantive, and cooperative interaction among counterparts, entailing both theoretical and experiential learning for all participants.

(4) Contribute to the establishment of sustained, international, institutional and individual linkages by providing a context for professional learning and development, skills enhancement, and collaborative problem-solving. Additionally, these projects are intended to introduce foreign participants and their American counterparts to one another's political, social, and economic values and systems, facilitating improved communication and enhancing mutual understanding.

(5) Conduct enhancement activities and leadership development opportunities that reinforce program goals after the participants' return to their home countries. An essential follow-on component will be a longitudinal assessment of the achievements of the program.

Possible Program Model:

• American citizens travel under the auspices of the grantee institution to partner country(ies), consult with in-country partner institution(s), contact and identify potential exchange participants, and introduce the concept and goals of the project. (During this and other phases of the project, grantees and program participants are encouraged to engage in outreach activities that will increase the visibility of the goals and activities of the project, including the holding of public events and appropriate media appearances. Grantees and in-country partners are encouraged to work closely with staff from the U.S. mission on any such in-country outreach, and with Washington, DC-based program officers on any such U.S. outreach.)

• A group of non-American participants travels to the United States to engage in dialogue, orientation, site visits, training, workshops, and seminars to gain and expand skills, develop action plans, conduct shadow internships, and/or undertake other experiential activities.

• A second group of Americans—including internship hosts or seminar leaders—travel to the partner country(ies) and work with foreign participants in seminars and workshops to broaden the scope of professional individuals engaged in the exchange.

• A second group of foreign participants, possibly nominated by the original participants, but which broadens the scope of the participants involved, travels to the United States for in-depth internships, to be involved in further training activities, or to further pursue the goals of the exchange, returning to their countries to put what has been learned into practice.

• Foreign participants, in conjunction with in-country partners, conduct a small grants competition for projects designed to expand the exchange experience to a broader audience in-country and support the development of alumni association.

Western Hemisphere (WHA)

Program Contact: Laverne Johnson, tel: (202) 453-8160, e-mail: JohnsonLV@state.gov.

I. WHA: Active and Responsible Citizenship

• Educate citizens, with particular focus on educators, leaders of youth organizations, journalists, or community leaders/activists in non-governmental organizations, on the rights and responsibilities of individuals in civil society and a democratic polity. Empower them to take initiative and to participate in the discussion and the development of policy by providing information, enhancing skills, and strengthening organizations. Projects should emphasize formal and/or informal learning, engagement, dialogue, and collaborative effort.

• Engage individuals in formal and informal leadership positions in an examination of the importance of citizen participation in decision-making and consider specific practices that promote the type of effective, accountable, transparent and responsive institutions that are crucial to the development of democracy. Projects should engage leaders, educators, youth influencers, and/or community/NGO activists in dialogue.

Projects may focus on one of more of the following themes: Governance, transparency, and fighting corruption; education for participation in civil society, including curriculum development and teacher training; advocacy in democratic process, NGO development, public interest advocacy and information dissemination; expanding the role of women and minorities; educating for responsible environmental action; and/or education for responsible preservation of cultural heritage.

Participants: Representatives of government and non-governmental organizations, community leaders/activists, educators, leaders of youth organizations, and/or journalists.

Eligible Countries: (single-country and multiple-country projects accepted) Bolivia, Ecuador, Nicaragua, Peru, Venezuela.

A successful program will provide participants:

• An understanding of the important elements of a civil society. This includes the centrality of an informed, engaged, and responsible citizenry; citizens acting at the grassroots level to deal with social problems; volunteerism, and an awareness of the importance of the rule of law in all societies.

• An appreciation for American governmental and legal structures, an understanding of the diversity of American society, and increased tolerance and respect for others with differing views and beliefs.

• Structured interaction designed to develop enduring professional ties between U.S. and partner organizations.

• Enhanced leadership capacity enabling participants to initiate and support activities in their home countries that focus on citizen awareness and engagement, strengthening social development, and community service.

Successful applicants must demonstrate a capacity to implement successfully the following key activities:

(1) Develop a multi-phased and mid-level exchange focused on emerging professional and community leaders (scholars and academics; public policy advocates; non-governmental organization activists; etc.) to address jointly an issue of importance to United States and partner country interests.

(2) Identify an in-country counterpart organization committed to active involvement in the exchange and engage that partner in the recruitment and selection of participants and the implementation of in-country phases of the exchange.

(3) Promote focused, substantive, and cooperative interaction among counterparts, focusing especially on experiential learning for all participants.

(4) Contribute to the establishment of sustained, international, institutional and individual linkages by providing a context for professional learning and development, skills enhancement, and collaborative problem-solving.

(5) Introduce foreign participants and their American counterparts to one another's political, social, and economic values and systems, facilitating improved communication and enhancing mutual understanding.

(6) Conduct enhancement activities and leadership development opportunities that reinforce program goals after the participants' return to their home countries. An essential follow-on component will be a longitudinal assessment of the achievements of the program.

Possible Program Model:

• American citizens travel under the auspices of the grantee institution to partner country(ies), consult with in-country partner institution(s), contact and identify potential exchange participants, and introduce the concept and goals of the project.

• A group of non-American participants travels to the United States to engage in dialogue, orientation, site visits, training, workshops, and seminars, in the course of which new skills may be learned and honed, action plans may be developed, shadow internships may be conducted, and/or other experiential activities undertaken.

• A second group of Americans—specialists identified by the non-American participants as having particularly relevant information or skills—travel to the partner country(ies) and work with foreign participants in seminars and workshops to broaden the scope of professional individuals engaged in the exchange.

• A second group of foreign participants, possibly nominated by the original participants, travels to the United States for in-depth internships, to be involved in train-the-trainer activities, or to further pursue the goals of the exchange, returning to their countries to put what has been learned into practice.

II. WHA: Creating Economic Growth To Fight Poverty and Strengthen Democracy

• Engage community business leaders, including those involved in science and technology, to promote local grassroots economic growth and prosperity among emerging youth leaders by sharing practical methods and developing community leadership skills in business, including the importance of diverse outreach through corporate social responsibility.

• Educate youth and women in entrepreneurial thinking and business leadership skills to empower them to engage in business creation.

Audience: Emerging, young entrepreneurs, teachers, community leaders, including representatives from governmental and non-governmental organizations. Programs focus on engaging indigenous and Afro-Latino communities will be deemed very competitive.

Eligible Countries: (Single-country and multiple-country projects accepted) Bolivia, Brazil, Colombia, Ecuador, Mexico, Nicaragua, Peru, and Venezuela.

A successful program will provide participants:

▪ Knowledge of the role learning plays in creating the conditions necessary for a free market economy. This includes awareness among the individuals from the private sector, and to a lesser extent, public sector counterparts who shape the business environment, to develop technically competent and culturally sensitive workers in private sector enterprises and an appreciation of the role of the individual entrepreneur in creating economic growth.

▪ Appreciation for American business practice and role of individual grassroots-focused entrepreneurial efforts to create growth, and an understanding of the rich diversity of American society.

▪ Structured interaction designed to develop enduring professional ties between U.S. and partner organizations.

▪ Enhanced leadership capacity enabling participants to initiate and support activities in their home countries that focus on development and community service.

Successful applicants must fully demonstrate a capacity to achieve the following three key activities:

(1) Recruit and select approximately 30 individuals from the business associations, banking and regulatory agencies and print media. The delegation should include individual business owners from diverse regions of the participating country. Program should be designed for two groups of 15 to travel to the U.S. For this phase of the program, partnering with organizations based in the proposed host-country is required.

(2) In addition to identifying in-country partner and screening, selecting, and preparing participants prior to departure for the United States, the recipient of this grant will be responsible for building and executing a three to four week informative travel and residency program in the United States.

(3) The final part of the program will be conducting enhancement activities and leadership development opportunities that reinforce program goals after the participants' return to their home country. An essential follow-on component will be a longitudinal assessment of the achievements of the program.

Possible Program Model:

• Successful community-engaged small business entrepreneurs conduct workshops for audiences on effective, practical methods of stimulating entrepreneurial skills in target countries.

• Key members of in-country workshops invited to U.S. for business facilitation or mentoring to promote innovation and networking skills. Develop action plans for business implementation upon return home.

• Upon return participants implement business action plans with guidance from U.S. mentors utilizing e-mail and other direct communication.

• Business mentors travel to country to evaluate implementation of action plan and offer assistance.

Cultural Programs (SCU)

Program Contact: Mark Larsen, tel: (202) 453-8154, e-mail: LarsenM@state.gov or Jill Staggs, tel: (202) 203-7500, e-mail: StaggsJJ@state.gov.

I. Responsible Citizenship and the Arts: Artists Engaging Youth on the Margins of Society

Objective: Projects conducted under this theme will demonstrate how collaborative projects in the performing and visual arts can reach out to the margins of society to engage young people, instilling hope and a sense of self, demonstrating the value of teamwork and pride, encouraging positive attitudes toward education and responsibility for health (HIV/AIDS), and ultimately developing leadership skills and a sense of responsibility toward society. Projects should be designed to compare mechanisms American groups have successfully used to reach out to youth on the margins of society, with the activities of community and cultural activists in other countries; projects should include opportunities to compare and contrast the problems facing youth in the U.S. and in eligible countries, opportunities for collaborative problem solving among project managers (professionals), as well as collaborative artistic work by American youth and those from participating countries.

Participants/audience: Community and cultural leaders, educators, and American and international teen-age youth participating in the programs.

Eligible countries, entities:

AF: Nigeria, Kenya, South Africa

EAP: Indonesia, Malaysia

EUR: Turkey

NEA: Algeria, Egypt, Iran*, Jordan, Lebanon, Morocco, Palestinian Authority, Saudi Arabia, Syria

SCA: Pakistan, Uzbekistan

WHA: Bolivia, Venezuela

*Note: Applicants planning to include Iranian participants must meet specific additional eligibility requirements. To assure that planning for the inclusion of Iran complies with guidelines, please contact Mark Larsen, 202-453-8154, or e-mail larsenm@state.gov.

Possible Program Model:

• American grantee organization visits partner country to identify key community activists/independent arts organizations to be invited to the U.S.

• International group comes to the U.S. to visit 2-3 American cities where innovative cultural outreach projects have successfully engaged American youth on the margins of society, followed by 1-2 week practicum in which international participants join an American group in on-site rehearsals and artistic public, non-commercial presentations in the U.S. This phase of the project should include hands-on experience with outreach to the broader community to establish project credibility and buy-in, including press or other appropriate communication tools.

• Third phase of the project should identify those Americans that have been most effective in working with foreign participants and take them to participating countries for 3-4 week engagement working with local educators/community activists and artists. This phase should focus on developing an actual product or performance with in-country youth. This phase of the project should include plans for appropriate community outreach and communication, including possible press.

• Final phase of the project should create an international tool (Web page or other) to facilitate ongoing communication and exchange of expertise/information.

II. Responsible Citizenship and the Arts: Cultural Institutions as Youth Educators

Objective: Promote an understanding of the role of cultural institutions as educators, particularly to teach children and youth to value and respect their own cultural heritage and, within that context, to examine and learn to appreciate the heritage of other peoples and cultures.

Audience: Managers and administrators of art organizations, museum professionals, community activists, educators, cultural communicators (writers, journalists)

Eligible Countries:

AF: Nigeria, Kenya, South Africa

EAP: China, Vietnam (single country projects only)

EUR: Turkey

NEA: Algeria, Egypt, Jordan, Morocco, Tunisia, Saudi Arabia, Syria

SCA: Pakistan, Uzbekistan

WHA: Bolivia, Peru, Venezuela

Possible Program Model:

• U.S. grantee identifies U.S. citizens to conduct in-country outreach and seminars on the theme. Identifies most promising young leaders in the field to participate in U.S. based follow-on and mentoring opportunity.

• U.S. program offers one-two week overview of innovative U.S. education and community outreach programs in museums and other cultural institutions, followed by 3-4 week internship/mentoring projects with education and outreach programs in U.S. institutions. Internships should include hands on preparation of, and participation in, outreach and education workshops designed to reach children and high school age youth. U.S. program ends with 2-day session to develop concept papers for projects participants would like to implement in their home institutions.

• Period of virtual/distance consultation between U.S. experts and international participants as they develop action plans to implement local projects.

• U.S. teams visit participating country institutions 4-6 months later to evaluate progress in implementing plans, trouble-shoot problems, offer expertise in implementation and design post-grant mechanisms to continue professional dialogue.

III. Responsible Citizenship and the Arts: Creating Cultural Bridges

Objective: Transcend challenging political, cultural and geographic borders through arts exchanges and projects involving cultural figures, artists, art historians, curators, conservators, arts educators and community leaders. Projects should focus primarily on linking young and mid-level professionals, engaging them to explore common cultural and aesthetic values and to identify and build common approaches and/or proposed collaborative projects in which creativity and appreciation for cultural heritage can transcend language and political barriers. Projects funded under this theme may be designed to lay the groundwork for a major artistic presentation or conference. However, funds awarded under this competition may not be used for exchanges of objects/artifacts or for costs associated with staging artistic presentations or major conferences. ECA would welcome proposals that include a commitment (or statement of interest) on the part of the grantee organization to sponsor such activities after the conclusion of the grant, either with its own, or other private-sector, funding. Workshops or symposia designed to promote intellectual exchange among project participants can be considered for funding under this theme if they are one component in a larger two-way exchange. ECA would welcome in particular proposals for exchanges on the following or other, similar, themes: (a) The notion of built and unbuilt space in Islamic and western architectural traditions; (b) textiles as life and art; (c) the global and the local: influences in contemporary painting and sculpture; (d) the word as cultural heritage—preserving the human record.

Proposals must identify the specific political, cultural or geographic border to be bridged and explain how the proposed mix of participating individuals/countries and the proposed exchange activities will accomplish that goal.

Audience: Historians of art, architecture, decorative arts (textiles, faience), ethno-musicology, philosophers, writers, cultural journalists, curators and conservators, museum professionals, educators.

Eligible Countries:

AF: Mali, Niger, Kenya (single or multi-country)

EAP: China (cross-straits)

EUR: Turkey (if included in multi-country project with NEA countries)

NEA: Algeria, Egypt, Morocco, Tunisia, Iran*, Syria (single or multi-country projects; projects may include Turkey).

SCA: **Afghanistan and Uzbekistan; may be combined with other Central Asian countries if applicant can present evidence that doing so would strengthen the project outcome;

SCA: Pakistan and India.

*Note: Applicants planning to include Iranian participants must meet specific additional eligibility requirements. To assure that planning for the inclusion of Iran complies with guidelines, please contact Mark Larsen, 202-453-8154, or e-mail larsenm@state.gov.

**For projects in Afghanistan, proposals must include a description of plans for an alternate location for the in-country portion of the program given the security situation in Afghanistan.

Possible Program Model:

• Applicants should develop a multi-phased, two-way exchange of participants designed to meet the stated objectives of the project and explain specifically how each phase of the proposed exchange will contribute to the overall objective.

Participant Selection:

Proposals should clearly describe the types of persons that will participate in the program as well as the participant recruitment and selection processes. For programs that include U.S. internships, applicants should submit letters of support from host institutions. In the selection of foreign participants, the Bureau and U.S. embassies retain the right to review all participant nominations and to accept or refuse participants recommended by grantee institutions. When U.S. participants are selected, grantee institutions must provide their names and brief biographical data to the Office of Citizen Exchanges. Priority in two-way exchange proposals will be given to foreign participants who have not previously traveled to the United States.

Security Considerations:

With regard to projects focusing on Afghanistan, Pakistan, and Iraq, applicants should be aware of security concerns that will affect the ability of the grantee organization to arrange for the travel of U.S. citizens to these countries or to conduct site visits, participant interviews, seminars, workshops, or training sessions there. All travel to, and activities conducted in, these countries will be subject to consultation with and approval of official U.S. security personnel in country. The applicant organization should be prepared to modify timing or to reconfigure project implementation plans as required by security considerations.

II. Award Information

Fiscal Year Funds: 2007, pending availability of funds

Approximate Total Funding: $5,000,000-$10,000,000 or more, pending availability of funds and the quality of submissions.

Estimated funding, Regional Programs: $5,000,000 or more.

Estimated funding Arts Programs: $1,000,000-$3,500,000 or more.

Approximate Number of Awards: 30 or more, pending availability of funds and the quality of submissions.

Anticipated Award Date: Pending availability of funds, September 1, 2007.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a.) Grants awarded to eligible organizations with less than four years of experience in conducting international exchange programs will be limited to $60,000.

(b.) Technical Eligibility: In addition to the requirements outlined in the Proposal Submission Instructions (PSI) technical format and instruction document, all proposals must comply with the following requirements or they will result in your proposal being declared technically ineligible and given no further consideration in the review process:

1. The Office does not support proposals limited to conferences or seminars (i.e., one- to fourteen-day programs with plenary sessions, main speakers, panels, and a passive audience). It will support conferences only when they are a small part of a larger project in duration that is receiving Bureau funding from this competition.

2. No funding is available exclusively to send U.S. citizens to conferences or conference-type seminars overseas; nor is funding available for bringing foreign nationals to conferences or to routine professional association meetings in the United States.

3. The Office of Citizen Exchanges does not support academic research or faculty or student fellowships.

4. Applicants may not submit more than four (4) proposals total for this competition. Organizations that submit proposals that exceed these limits will result in having all of their proposals declared technically ineligible, and none of the submissions will be reviewed by a State Department panel.

5. Proposals that target countries/regions or themes not listed in the RFGP will be deemed technically ineligible.

IV. Application and Submission Information

Note: Please read the complete Federal Register announcement before sending inquiries or submitting proposals. Once the RFGP deadline has passed, Bureau staff may not discuss this competition with applicants until the proposal review process has been completed.

IV.1 Contact Information to Request an Application Package: Please contact Cathy Jenkins-Smith, Program Coordinator, the Office of Citizen Exchanges, ECA/PE/C Room 220 U.S. Department of State, SA-44, 301 4th Street, SW., Washington, DC 20547, (202) 453-8177 fax: (202) 453-8169, JenkinsCA@state.gov to request a Solicitation Package. Please refer to the Funding Opportunity Number ECA/PE/C-07-01 located at the top of this announcement when making your request.

The Solicitation Package contains the Proposal Submission Instruction (PSI) document which consists of required application forms, and standard guidelines for proposal preparation.

Please specify and refer to the Funding Opportunity Number ECA/PE/C-07-01 located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and 8 copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the solicitation package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to all Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2. Adherence To All Regulations Governing The J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

IV.3d.3. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.4. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

Depending upon an organization's responsiveness to the published review criteria, listed under “V.1 Review Process” section below, and the final level of funding available to support this competition, the office reserves the right to increase or decrease budgets for final grant awards to meet the overall needs of the program.

IV.3e.2. Allowable costs for the program include the following:

1. Travel. International and domestic airfare; visas; transit costs; ground transportation costs. Please note that all air travel must be in compliance with the Fly America Act. There is no charge for J-1 visas for participants in Bureau sponsored programs.

2. Per Diem. For U.S.-based programming, organizations should use the published Federal per diem rates for individual U.S. cities. Domestic per diem rates may be accessed at: http://policyworks.gov/org/main/mt/homepage/mtt/perdiem/perd03d.html. ECA requests applicants to budget realistic costs that reflect the local economy and do not exceed Federal per diem rates. Foreign per diem rates can be accessed at: http://www.state.gov/m/a/als/prdm/html.

3. Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $300 per day. Organizations are encouraged to cost-share rates that would exceed that figure. Subcontracting organizations may also be employed, in which case the written agreement between the prospective grantee and sub-grantee should be included in the proposal. Such sub-grants should detail the division of responsibilities and proposed costs, and subcontracts should be itemized in the budget.

6. Room rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers; these costs should be justified in the budget narrative. Costs for furniture are not allowed.

9. Working meal. Normally, no more than one working meal may be provided during the program. Per capita costs may not exceed $15-$25 for lunch and $20-$35 for dinner, excluding room rental. The number of invited guests may not exceed participants by more than a factor of two-to-one. When setting up a budget, interpreters should be considered “participants.”

10. Return travel allowance. A return travel allowance of $70 for each foreign participant may be included in the budget. This allowance would cover incidental expenses incurred during international travel.

11. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for any travel associated with visa interviews or DS-2019 pick-up.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources.

Please refer to the Solicitation Package for complete budget guidelines and formatting instructions.

IV.3f. Submission Dates and Times:

Application Deadline Date: February 16, 2007.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and eight copies of the application should be sent to: U.S. Department of State, SA-44, Bureau of Educational and Cultural Affairs, Ref.: ECA/PE/C-07-01, Program Management, ECA/EX/PM, Room 534, 01 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

Applicants must also submit the “Executive Summary” and “Proposal Narrative” sections of the proposal in text (.txt) format on a PC-formatted disk. The Bureau will provide these files electronically to the appropriate Public Affairs Section(s) at the U.S. embassy(ies) for its(their) review.

V. Application Review Information

V.1. Review Process The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award grants resides with the Bureau's Grants Officer.

Review Criteria

1. Program Planning and Ability to Achieve Objectives: Program objectives should be stated clearly and should reflect the applicant's expertise in the subject area and region. Objectives should respond to the topics in this announcement and should relate to the current conditions in the target country/countries. A detailed agenda and relevant work plan should explain how objectives will be achieved and should include a timetable for completion of major tasks. The substance of workshops, internships, seminars and/or consulting should be described in detail. Sample training schedules should be outlined. Responsibilities of proposed in-country partners should be clearly described. A discussion of how the applicant intends to address language issues should be included, if needed.

2. Institutional Capacity: Proposals should include (1) The institution's mission and date of establishment; (2) detailed information about proposed in-country partner(s) and the history of the partnership; (3) an outline of prior awards-U.S. government and/or private support received for the target theme/country/region; and (4) descriptions of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

3. Cost Effectiveness and Cost Sharing: Overhead and administrative costs in the proposal budget, including salaries, honoraria and subcontracts for services, should be kept to a minimum. Proposals whose administrative costs are less than twenty-five (25) per cent of the total funds requested from the Bureau will be deemed more competitive under this criterion. Applicants are strongly encouraged to cost share a portion of overhead and administrative expenses. Cost-sharing, including contributions from the applicant, proposed in-country partner(s), and other sources should be included in the budget request. Proposal budgets that do not reflect cost sharing will be deemed not competitive in this category.

4. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI) and the Diversity, Freedom and Democracy Guidelines section, Item IV.3d.2, above for additional guidance.

5. Post-Grant Activities: Applicants should provide a plan to conduct activities after the Bureau-funded project has concluded in order to ensure that Bureau-supported programs are not isolated events. Funds for all post-grant activities must be in the form of contributions from the applicant or sources outside of the Bureau. Costs for these activities must not appear in the proposal budget, but should be outlined in the narrative.

6. Program Monitoring and Evaluation: Proposals should include a detailed plan to monitor and evaluate the program. Program objectives should target clearly defined results in quantitative terms. Competitive evaluation plans will describe how applicant organizations would measure these results, and proposals should include draft data collection instruments (surveys, questionnaires, etc.) in Tab E. See the “Program Management/Evaluation” section, item IV.3d.3 above for more information on the components of a competitive evaluation plan. Successful applicants (grantee institutions) will be expected to submit a report after each program component concludes or on a quarterly basis, whichever is less frequent. The Bureau also requires that grantee institutions submit a final narrative and financial report no more than 90 days after the expiration of a grant. Please refer to the “Program Management/Evaluation” section, item IV.3d.3 above for more guidance.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants or http://exchanges.state.gov/education/grantsdiv/terms.htm#articleI.

VI.3. Reporting Requirements: You must provide ECA with a hard copy original plus 1 copy of the following reports:

(1) A final program and financial report no more than 90 days after the expiration of the award;

(2) Any interim report(s) required in the Bureau grant agreement document.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements:

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: The Office of Citizen Exchanges, ECA/PE/C, 301 4th Street, SW., Room 220, Washington DC 20547. Program Contacts Are:

Africa

Program Contact: Curtis Huff, tel: (202) 453-8159, e-mail: HuffCE@state.gov.

East Asia and the Pacific

Program Contact: Clint Wright, tel: (202) 453-8164, e-mail: WrightHC@state.gov.

Europe

Program Contact: Brent Beemer, tel: (202) 453-8147, e-mail: BeemerBT@state.gov.

Near East and North Africa (NEA)

Program Contact: Thomas Johnston, tel: (202) 453-8162, e-mail: JohnstonTJ@state.gov.

South Central Asia (SCA)

Program Contact: Adam Meier, tel: (202) 453-8151, e-mail: MeierAW@state.gov.

Western Hemisphere (WHA)

Program Contact: Laverne Johnson, tel: (202) 453-8160, e-mail: JohnsonLV@state.gov.

Cultural Programs (SCU)

Program Contact: Mark Larsen, tel: (202) 453-8154, e-mail: LarsenM@state.gov or Jill Staggs, tel: (202) 203-7500, e-mail: StaggsJJ@state.gov.

All correspondence with the Bureau concerning this RFGP should reference the above title and number ECA/PE/C-07-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 28, 2006.
Dina Habib Powell,
Assistant Secretary for Educational and Cultural Affairs, Department of State.

[FR Doc. E6-20918 Filed 12-11-06; 8:45 am]

BILLING CODE 4710-05-P